DEPARTMENT OF THE INTERIOR

Bureau of Land Management

[LLCOF03000 L16100000.DU0000]

Notice of Availability of the Draft Resource Management Plan Amendment and Environmental Assessment for the San Luis Resource Area, CO

AGENCY: Bureau of Land Management, Interior.

ACTION: Notice of availability.

SUMMARY: In accordance with the National Environmental Policy Act of 1969, as amended, and the Federal Land Policy and Management Act of 1976, as amended, the Bureau of Land Management (BLM) San Luis Valley Field Office prepared a Draft Resource Management Plan Amendment (RMPA) with an associated Environmental Assessment (EA) for the San Luis Resource Area and by this notice is announcing the opening of the public comment period.

DATES: To ensure that comments will be considered, the BLM must receive written comments on the draft RMPA and associated EA by January 21, 2014. The BLM will announce future meetings or hearings and any other public participation activities at least 15 days in advance through public notices, media releases and/or mailings.

ADDRESSES: You may submit comments related to the draft RMPA and associated EA by any of the following methods:

• Email: BLM_CO_SLVPLC_Comments@blm.gov.

• Fax: 719-655-2502.

• Mail: BLM—Blanca Wetlands RMPA/EA, 46525 State Highway 114, Saguache, CO 81149.

Copies of the draft RMPA and associated EA are available in the BLM's San Luis Valley Field Office at 46525 State Highway 114, Saguache, CO 81149; or on the Web site: http://www.blm.gov/co/st/en/fo/slvfo/blanca_wetlands.html.

FOR FURTHER INFORMATION CONTACT: Jill Lucero, Wildlife Biologist; telephone: 719-274-6301; San Luis Valley Field Office: See address above; email: jlucero@blm.gov. Persons who use a telecommunications device for the deaf (TDD) may call the Federal Information Relay Service (FIRS) at 1-800-877-8339 to contact the above individual during normal business hours. The FIRS is available 24 hours a day, seven days a week, to leave a message or question with the above individual. You will receive a reply during normal business hours.

SUPPLEMENTARY INFORMATION: The BLM prepared the draft RMPA and associated EA to analyze the potential impacts of modifying the boundary of the Blanca Wetlands Area of Critical Environmental Concern (ACEC). The current ACEC boundary and management decisions for resources are described in the San Luis Resource Area Approved RMP (December 1991).

The formal public scoping process for the RMPA and EA began on October 11, 2011, with the publication of a Notice of Intent in the Federal Register. Major issues considered in the RMPA and associated EA include geological and paleontological resources; vegetation and soils; wildlife and terrestrial habitat; aquatic, wetlands and riparian areas; water resources; cultural resources; recreation; science and education; livestock grazing; transportation and travel management; lands and realty; and special designations.

The draft RMPA and associated EA evaluate the No Action Alternative and two alternatives for modifying the boundary of the Blanca Wetlands ACEC (Alternatives 1 and 2). The BLM identified Alternative 1 as the preferred alternative. The No Action Alternative would retain the current management direction and Blanca Wetlands ACEC boundary (9,147 acres) specified in the 1991 San Luis Resource Area RMP. Alternative 1 would enlarge the Blanca Wetlands ACEC to 122,762 acres. Alternative 2 would enlarge the Blanca Wetlands ACEC to 99,062 acres. Both Alternatives 1 and 2 would provide special management to maintain and improve wetlands for waterfowl production, enhance historical wetlands, and emphasize recreation related to warm water fisheries and watchable wildlife. Neither alternative specifies any new resource use limitations for the expanded portion of the Blanca Wetlands ACEC. The BLM would establish appropriate resource use limitations in the future as wetlands are developed. No new water rights would be created and no land ownership jurisdictions would change should the boundary be expanded as a result of any alternative.

Pursuant to 43 CFR 1610.7-2(b), this notice announces a concurrent public comment period on the proposed expanded ACEC.

Please note that public comments will be available for public review and disclosure at the above address during regular business hours (8:00 a.m. to 4:00 p.m.), Monday through Friday, except holidays.

Before including your address, phone number, email address, or other personal identifying information in your comment, you should be aware that your entire comment—including your personal identifying information—may be made publicly available at any time. While you can ask us in your comment to withhold your personal identifying information from public review, we cannot guarantee that we will be able to do so.

Authority: 40 CFR 1506.6, 43 CFR 1610.2.

John Mehlhoff,
BLM Colorado Acting State Director.

[FR Doc. 2013-27835 Filed 11-19-13; 8:45 am]

BILLING CODE 4310-JB-P